DEPARTMENT OF ENERGY

Federal Energy Regulatory Commission

Notice of Application for Amendment of License and Soliciting Comments, Motions To Intervene, and Protests

June 7, 2002.

Take notice that the following application has been filed with the Commission and is available for public inspection:

a. Application Type: Amendment of License.

b. Project Nos: 2447-153, 2448-158, 2449-137, 2450-133, 2451-136, 2452-144, 2453-163, 2468-140, 2580-183, and 2599-151.

c. Date Filed: April 30, 2002.

d. Applicant: Consumers Energy Company.

e. Name of Projects: Alcona, Mio, Loud, Cooke, Rogers, Hardy, Five Channels, Croton, Tippy and Hodenpyl.

f. Location: The projects are located on the Manistee, Muskegon and Au Sable Rivers in Manistee, Wexford, Mecosta, Newaygo, Alcona, Iosco and Oscoda Counties, Michigan.

g. Filed Pursuant To: Federal Power Act, 16 U.S.C. 791(a)-825(r) and Section 4.201 of the Commission's regulations.

h. Applicant Contact: Robert M. Neustifter, Esq.; Consumers Energy Company; 212 W. Michigan Avenue; Jackson, MI 49201. Telephone: (517) 788-2974

i. FERC Contact: Any questions concerning this notice should be addressed to Mr. Thomas LoVullo at (202) 219-1168, or e-mail address: thomas.lovullo@ferc.gov.

j. Deadline for filing comments, motions to intervene and protests: July 8, 2002.

All documents (an original and eight copies) should be filed with: Magalie R. Salas; Secretary; Federal Energy Regulatory Commission; 888 First Street, NE; Washington, DC 20426. Please include the project numbers (line b. above) on any comments or motions filed.

k. Description of Request: Each of the 10 referenced hydroelectric projects contain an article within their respective licenses that states, in part, that Consumers Energy Company (licensee) shall make specific annual monetary contributions to the State of Michigan Habitat Improvement Account for fish losses due to turbine entrainment mortality. The specific monetary contributions vary by project and are to be used for fish habitat restoration and other fish management purposes. The licensee proposes to amend the license requirement to reflect the conclusions reached in a November 2001 desktop evaluation and April 2002 supplemental analysis of the appropriateness of a 1990/1991 study of fish losses at the projects. The licensee concludes that subsequent studies and analyses demonstrate that substantially fewer and smaller sized fish are entrained at the licensee's 10 projects. Based on the results of the licensee's analyses, the licensee proposes to reduce the total annual monetary contributions from $472,590 to $65,229 (in 1999 dollars) for the 10 referenced projects.

l. Locations of the Application: A copy of the application is available for inspection and reproduction at the Commission's Public Reference Room, located at 888 First Street, NE, Room 2A, Washington, DC 20426, or by calling (202) 208-1371. This filing may also be viewed on the Web at http://www.ferc.gov using the “FERRIS” link select “General Search” and follow the instructions (call 202-208-2222 for assistance). A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: All filings must bear in capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's web site at http://www.ferc.gov under the “e-Filing” link.

Linwood A. Watson, Jr.,
Deputy Secretary.

[FR Doc. 02-14920 Filed 6-12-02; 8:45 am]

BILLING CODE 6717-01-P